DEPARTMENT OF HEALTH AND HUMAN SERVICES

National Institutes of Health

Office of the Secretary; Notice of Meeting

Pursuant to section 1009 of the Federal Advisory Committee Act, as amended, notice is hereby given of a meeting of the Interagency Pain Research Coordinating Committee.

The meeting will be held as a virtual meeting and will be open to the public as indicated below. Individuals who plan to view the virtual meeting and need special assistance or other reasonable accommodations to view the meeting, should notify the Contact Person listed below in advance of the meeting. The meeting can be accessed from the NIH Videocast at the following link: https://videocast.nih.gov/.

Name of Committee: Interagency Pain Research Coordinating Committee (IPRCC).

Date: June 23, 2023.

Time: 11:00 a.m. to 12:30 p.m. Eastern Time (ET).

Agenda: The meeting will cover committee business items and IPRCC member updates. Items discussed will include updates on the Helping to End Addiction Long-Term (HEAL) Initiative and the Federal Pain Research Strategy (FPRS) research progress, and an update from the Centers for Medicare and Medicaid Services (CMS).

Deadline: Submission of intent to submit written/electronic statement for comments: Friday, June 16 by 5:00 p.m. ET.

Place: National Institutes of Health, Building 31, 31 Center Drive, Bethesda, MD 20892 (Virtual Meeting).

Contact Person: Linda L. Porter, Ph.D., Director, Office of Pain Policy, and Planning, Office of the Director, National Institute of Neurological Disorders and Stroke, NIH, 31 Center Drive, Room 8A31, Bethesda, MD 20892.

Phone: (301) 451-4460.

Email: Linda.Porter@nih.gov.

Any interested person may file written comments with the committee by forwarding the statement to the Contact Person listed on this notice. The statement should include the name, address, telephone number and when applicable, the business or professional affiliation of the interested person.

The meeting will be open to the public via NIH Videocast https://videocast.nih.gov/. Visit the IPRCC website for more information: http://iprcc.nih.gov. Agenda and any additional information for the meeting will be posted when available.

Dated: May 22, 2023.
Tyeshia M. Roberson-Curtis,
Program Analyst, Office of Federal Advisory Committee Policy.

[FR Doc. 2023-11230 Filed 5-25-23; 8:45 am]

BILLING CODE 4140-01-P